FEDERAL COMMUNICATIONS COMMISSION

[Report No. 2450]

Petitions for Reconsideration of Action in Rulemaking Proceedings

November 7, 2000.

Petitions for Reconsideration have been filed in the Commission's rulemaking proceedings listed in this Public Notice and published pursuant to 47 CFR 1.429(e). The full text of this document is available for viewing and copying in Room CY-A257, 445 12th Street, SW., Washington, DC or may be purchased from the Commission's copy contractor, ITS, Inc. (202) 857-3800. Oppositions to these petitions must be filed by November 30, 2000. See Section 1.4(b)(1) of the Commission's rules (47 CFR 1.4(b)(1)). Replies to an opposition must be filed within 10 days after the time for filing oppositions have expired.

Subject: Revision of the Commission's Rules to Ensure Compatibility with enhanced 911 Emergency Calling Systems (CC Docket No. 94-102).

Number of Petitions Filed: 2.

Subject: Amendment of Parts 1, 2 and 101 of the Commission's rules to License Fixed Services at 24 GHz (WT Docket No. 99-327).

Number of Petitions Filed: 2.

Federal Communications Commission.
Magalie Roman Salas,
Secretary.

[FR Doc. 00-29188 Filed 11-14-00; 8:45 am]

BILLING CODE 6712-01-M